DEPARTMENT OF HEALTH AND HUMAN SERVICES

Centers for Medicare & Medicaid Services

Statement of Organization, Functions, and Delegations of Authority

Part F., Section F.70. (Order of Succession) of the Statement of Organization, Functions, and Delegations of Authority for the Department of Health and Human Services, Centers for Medicare & Medicaid Services (CMS), (Federal Register, Vol. 49, No. 174, p. 35251, dated September 6, 1984) is hereby rescinded and replaced by the following new Section F.70.

F.70. Order of Succession

During any period when the Administrator, Centers for Medicare & Medicaid Services (CMS), has died, resigned, or otherwise become unable to perform the functions and duties of the office of the Administrator, CMS, the following officers, in the order listed, shall act for and perform the functions and duties of the office of Administrator, CMS, until such time the Administrator, CMS, again becomes available, a permanent successor is appointed, or the temporary successor is otherwise relieved:

1. Deputy Administrator.

2. Chief Operating Officer.

3. Director, Center for Medicare Management.

4. Deputy Chief Operating Officer.

5. Director & Chief Financial Officer, Office of Financial Management.

6. Deputy Director, Center for Medicare Management.

7. Deputy Director, Office of Financial Management.

The authority to act as the Administrator, CMS, must be exercised in accordance with the provisions of the Federal Vacancies and Reform Act of 1998 (“the Vacancies Act”), 5 U.S.C. 3345 et seq. The “Acting” title is applicable and reserved only in instances in which the CMS Administrator position is vacant. In accordance with the Vacancies Act, the Deputy Administrator is herein designated as the first assistant for CMS.

During a planned absence, the Administrator, CMS, may designate an individual to serve as “operationally in charge.” No individual who is serving in an “operationally in charge” capacity shall exercise this authority unless he or she is herein designated as a delegatee.

This authority is limited to maintaining the Agency's essential functions and restoring the Agency's normal business functions under the CMS Continuity of Operations Plan (COOP).

Dated: June 16, 2005.
Mark B. McClellan,
Administrator, Centers for Medicare & Medicaid Services.

[FR Doc. 05-14148 Filed 7-21-05; 8:45 am]

BILLING CODE 4120-01-M